SECURITIES AND EXCHANGE COMMISSION

[Release No. IC-26370]

Notice of Applications for Deregistration Under Section 8(f) of the Investment Company Act of 1940

February 27, 2004.

The following is a notice of applications for deregistration under section 8(f) of the Investment Company Act of 1940 for the month of February, 2004. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on March 23, 2004, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 942-0564, SEC, Division of Investment Management, Office of Investment Company Regulation, 450 Fifth Street, NW, Washington, DC 20549-0504.

Readington Holdings, Inc. [File No. 811-10055]

Summary: Applicant, a closed-end investment company, seeks an order declaring that it has ceased to be an investment company. On December 23, 2003, applicant made a liquidating distribution to its shareholders, based on net asset value. The holders of applicant's Class A senior stock received a priority distribution, as provided in applicant's certificate of incorporation, prior to the remaining assets being distributed to the holders of applicant's Class B junior stock. Expenses of $100,000 incurred in connection with the liquidation were paid by applicant.

Filing Date: The application was filed on February 12, 2004.

Applicant's Address: One Merck Dr., Whitehouse Station, NJ 08889.

The Kenwood Funds [File No. 811-7521]

Summary: Applicant seeks an order declaring that it has ceased to be an investment company. On December 23, 2003, applicant transferred its assets to Profit Funds Investment Trust, based on net asset value. Expenses of $65,260 incurred in connection with the reorganization were paid by the Kenwood Group, applicant's investment adviser, and Profit Investment Management, the acquiring fund's investment adviser.

Filing Dates: The application was filed on December 24, 2003, and amended on February 12, 2004.

Applicant's Address: 10 South La Salle St., Suite 3610, Chicago, IL 60603.

Mercury Index Funds, Inc. [File No. 811-9605]

Summary: Applicant seeks an order declaring that it has ceased to be an investment company. On April 15, 2003, applicant made a liquidating distribution to its shareholders, based on net asset value. Expenses of $5,200 incurred in connection with the liquidation were paid by Mercury Aggregate Bond Index Fund, applicant's sole remaining series.

Filing Dates: The application was filed on December 9, 2003, and amended on February 11, 2004.

Applicant's Address: 800 Scudders Mill Rd., Plainsboro, NJ 08536.

Gintel Fund [File No. 811-3115]

Summary: Applicant seeks an order declaring that it has ceased to be an investment company. On October 31, 2003, applicant transferred its assets to The Tocqueville Fund series of The Tocqueville Trust, based on net asset value. Applicant has transferred certain claims arising out of the settlement of a securities litigation matter to a liquidating trust for the benefit of applicant's former shareholders. Any amounts ultimately paid to the liquidating trust in connection with this settlement will be distributed pro rata to applicant's former shareholders. Expenses of $47,243 incurred in connection with the reorganization were paid by Gintel Asset Management, Inc., applicant's investment adviser, and Tocqueville Asset Management, L.P., the acquiring fund's investment adviser.

Filing Dates: The application was filed on December 23, 2003, and amended on February 10, 2004.

Applicant's Address: 500 B Monroe Turnpike, Box 141, Monroe, CT 06468.

Papp Focus Fund, Inc. [File No. 811-8601]

Summary: Applicant seeks an order declaring that it has ceased to be an investment company. On January 28, 2004, applicant made a liquidating distribution to its shareholders, based on net asset value. Expenses of $20,364 incurred in connection with the liquidation were paid by L. Roy Papp & Associates LLP, applicant's investment adviser.

Filing Date: The application was filed on February 3, 2004.

Applicant's Address: 6225 North 24th St., Suite 150, Phoenix, AZ 85016.

Phoenix Duff & Phelps Utilities Bond Fund, Inc. [File No. 811-9251]

Summary: Applicant, a closed-end investment company, seeks an order declaring that it has ceased to be an investment company. Applicant has never made a public offering of its securities and does not propose to make a public offering or engage in business of any kind.

Filing Date: The application was filed on October 24, 2003, and amended on February 3, 2004.

Applicant's Address: 55 East Monroe St., Chicago, IL 60603.

Acacia Life Insurance Co. [File No. 811-10369]

Summary: Applicant, a separate account of Acacia Life Insurance Company, seeks an order declaring that it has ceased to be an investment company. Applicant has not made any public offering of its securities and is not now engaged, or intending to engage, in any business activities other than those necessary for winding up its affairs.

Filing Dates: The application was filed on December 19, 2003, and amended on February 3, 2004.

Applicant's Address: 7315 Wisconsin Avenue, Bethesda, MD 20814.

Acacia Life Insurance Co. [File No. 811-10367]

Summary: Applicant, a separate account of Acacia Life Insurance Company, seeks an order declaring that it has ceased to be an investment company. Applicant has not made any public offering of its securities and is not now engaged, or intending to engage, in any business activities other than those necessary for winding up its affairs.

Filing Date: The application was filed on February 3, 2004.

Applicant's Address: 7315 Wisconsin Avenue, Bethesda, MD 20814.

Acacia Life Insurance Co. Regent 2001 [File No. 811-10403]

Summary: Applicant, a separate account of Acacia Life Insurance Company, seeks an order declaring that it has ceased to be an investment company. Applicant has not made any public offering of its securities and is not now engaged, or intending to engage, in any business activities other than those necessary for winding up its affairs.

Filing Dates: The application was filed on December 19, 2003, and amended on February 3, 2004.

Applicant's Address: 7315 Wisconsin Avenue, Bethesda, MD 20814.

For the Commission, by the Division of Investment Management, pursuant to delegated authority.
Margaret H. McFarland,
Deputy Secretary.

[FR Doc. 04-4801 Filed 3-3-04; 8:45 am]

BILLING CODE 8010-01-P